OFFICE OF PERSONNEL MANAGEMENT

5 CFR Part 990

RIN 3206-AJ97

General and Miscellaneous

AGENCY: Office of Personnel Management.

ACTION: Proposed rule.

SUMMARY: The Office of Personnel Management proposes to remove its regulation concerning the submission of claims by preference eligibles to OPM and the recognition of representatives by OPM. The regulation is now obsolete.

DATES: Comments must be received on or before July 28, 2003.

ADDRESSES: Send, deliver or fax comments to Ellen E. Tunstall, Deputy Associate Director for Talent and Capacity Policy, U.S. Office of Personnel Management, Room 6551, 1900 E Street, NW., Washington, DC 20415-9700; e-mail employ@opm.gov; FAX: (202) 606-2329.

FOR FURTHER INFORMATION CONTACT: Mr. Raleigh M. Neville by telephone at (202) 606-0960; by TDD at (202) 418-3134; by fax at (202) 606-0390; or by e-mail at rmnevill@opm.gov.

SUPPLEMENTARY INFORMATION: The purpose of this revision to part 990 is to eliminate the part because it is obsolete. OPM no longer adjudicates claims or appeals under sections 3502, 3503, or 7701 of title 5, United States Code. That appellate function was vested in the Merit Systems Protection Board, created by the Civil Service Reform Act of 1978. Accordingly, there is no basis to retain the provisions of part 990 in the Code of Federal Regulations.

E.O. 12866, Regulatory Review

This rule has been reviewed by the Office of Management and Budget in accordance with E.O. 12866.

Regulatory Flexibility Act

I certify that these regulations would not have a significant economic impact on a substantial number of small entities because it affects only Federal employees.

List of Subjects in 5 CFR Part 990

Administrative practice and procedure, Claims, Government employees, Veterans.

U.S. Office of Personnel Management.
Kay Coles James,
Director.

Under the authority of 5 CFR chapter 1, OPM proposes to remove and reserve 5 CFR part 990 as follows:

PART 990—[Removed and Reserved]

1. Part 990 is removed and reserved.

[FR Doc. 03-13137 Filed 5-23-03; 8:45 am]

BILLING CODE 6325-38-P